SMALL BUSINESS ADMINISTRATION

[Disaster Declaration #14708 and #14709]

Texas Disaster Number TX-00468

AGENCY: U.S. Small Business Administration.

ACTION: Amendment 2.

SUMMARY: This is an amendment of the Presidential declaration of a major disaster for the State of Texas (FEMA-4269-DR), dated 04/25/2016.

Incident: Severe Storms and Flooding.

Incident Period: 04/17/2016 through 04/24/2016.

Effective Date: 05/09/2016.

Physical Loan Application Deadline Date: 06/24/2016.

EIDL Loan Application Deadline Date: 01/25/2017.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Presidential disaster declaration for the State of Texas, dated 04/25/2016 is hereby amended to include the following areas as adversely affected by the disaster:

Primary Counties: (Physical Damage and Economic Injury Loans):

Fort Bend, Liberty, Montgomery, San Jacinto

Contiguous Counties: (Economic Injury Loans Only):

Texas: Hardin, Jefferson, Polk, Trinity

All other information in the original declaration remains unchanged.

(Catalog of Federal Domestic Assistance Number 59008)

James E. Rivera,
Associate Administrator for Disaster Assistance.

[FR Doc. 2016-11615 Filed 5-16-16; 8:45 am]

BILLING CODE 8025-01-P